DEPARTMENT OF ENERGY

Federal Energy Regulatory Commission

Combined Notice of Filings #1

Take notice that the Commission received the following electric rate filings:

Docket Numbers: ER10-2739-001; ER11-27-002; ER11-3320-002; ER10-2744-002; ER10-2740-002; ER10-1631-001; ER11-3321-002.

Applicants: Rocky Road Power, LLC, Riverside Generating Company, LLC, LS Power Marketing, LLC, University Park Energy, LLC, LSP Safe Harbor Holdings, LLC, LSP University Park, LLC, Wallingford Energy LLC.

Description: Updated Market Power Analysis and Notification of Change in Status.

Filed Date: 06/24/2011.

Accession Number: 20110624-5206.

Comment Date: 5 p.m. Eastern Time on Tuesday, August 23, 2011.

Docket Numbers: ER11-3281-001.

Applicants: Midwest Independent Transmission System Operator, Inc.

Description: Midwest Independent Transmission System Operator, Inc. submits tariff filing per 35: 6-24-2011 Module F Compliance Filing to be effective 6/1/2011.

Filed Date: 06/24/2011.

Accession Number: 20110624-5146.

Comment Date: 5 p.m. Eastern Time on Friday, July 15, 2011.

Docket Numbers: ER11-3531-001.

Applicants: Midwest Independent Transmission System Operator, Inc.

Description: Midwest Independent Transmission System Operator, Inc. submits tariff filing per 35.17(b): 06-24-2011 ATC Schedule 9 amendment to be effective 7/6/2011.

Filed Date: 06/24/2011.

Accession Number: 20110624-5179.

Comment Date: 5 p.m. Eastern Time on Friday, July 15, 2011.

Docket Numbers: ER11-3869-001.

Applicants: Southern California Edison Company.

Description: Southern California Edison Company submits tariff filing per 35.17(b): Resubmission of First Amended LGIA Sentinel Project to be effective 6/24/2011.

Filed Date: 06/24/2011.

Accession Number: 20110624-5113.

Comment Date: 5 p.m. Eastern Time on Friday, July 15, 2011.

Docket Numbers: ER11-3877-000.

Applicants: Southwest Power Pool, Inc.

Description: Southwest Power Pool, Inc. submits tariff filing per 35.13(a)(2)(iii: OG&E Transmission Revenue Requirement Update to be effective 3/1/2011.

Filed Date: 06/24/2011.

Accession Number: 20110624-5102.

Comment Date: 5 p.m. Eastern Time on Friday, July 15, 2011.

Docket Numbers: ER11-3878-000.

Applicants: PJM Interconnection, LLC.

Description: PJM Interconnection, LLC submits tariff filing per 35.13(a)(2)(iii: PJM Queue No. W1-116; Original Service Agreement No. 2946 to be effective 5/25/2011.

Filed Date: 06/24/2011.

Accession Number: 20110624-5118.

Comment Date: 5 p.m. Eastern Time on Friday, July 15, 2011.

Docket Numbers: ER11-3879-000.

Applicants: Amerigreen Energy, Inc.

Description: Amerigreen Energy, Inc. submits tariff filing per 35.12: Market Based Rate Tariff to be effective 6/27/2011.

Filed Date: 06/24/2011.

Accession Number: 20110624-5120.

Comment Date: 5 p.m. Eastern Time on Friday, July 15, 2011.

Docket Numbers: ER11-3880-000.

Applicants: Vermont Transco, LLC.

Description: Vermont Transco, LLC submits tariff filing per 35.13(a)(2)(iii: Vermont Transco LLC Updated Exhibit A for the 1991 Transmission Agreement to be effective 7/1/2011.

Filed Date: 06/24/2011.

Accession Number: 20110624-5133.

Comment Date: 5 p.m. Eastern Time on Friday, July 15, 2011.

Docket Numbers: ER11-3881-000.

Applicants: New York Independent System Operator, Inc.

Description: New York Independent System Operator, Inc. submits tariff filing per 35.13(a)(2)(iii: Clarify Definition of ATC and Update List of Applicable NAESB WEQ Standards to be effective 4/1/2011.

Filed Date: 06/24/2011.

Accession Number: 20110624-5134.

Comment Date: 5 p.m. Eastern Time on Friday, July 15, 2011.

Docket Numbers: ER11-3882-000.

Applicants: PJM Interconnection, LLC.

Description: PJM Interconnection, LLC submits tariff filing per 35.13(a)(2)(iii: Revisions to the PJM Operating Agreement Section 8.3.3 Quorum to be effective 8/23/2011.

Filed Date: 06/24/2011.

Accession Number: 20110624-5135.

Comment Date: 5 p.m. Eastern Time on Friday, July 15, 2011.

Docket Numbers: ER11-3883-000.

Applicants: Wisconsin Electric Power Company.

Description: Wisconsin Electric Power Company submits tariff filing per 35.13(a)(2)(iii: Formula Rate Wholesale Sales Tariff revisions to be effective 9/1/2011.

Filed Date: 06/24/2011.

Accession Number: 20110624-5136.

Comment Date: 5 p.m. Eastern Time on Friday, July 15, 2011.

Docket Numbers: ER11-3884-000.

Applicants: El Paso Electric Company.

Description: El Paso Electric Company submits tariff filing per 35.13(a)(2)(iii: Rate Schedule No. 107 Macho Springs Settlement Agreement to be effective 9/1/2011.

Filed Date: 06/24/2011.

Accession Number: 20110624-5149.

Comment Date: 5 p.m. Eastern Time on Friday, July 15, 2011.

Docket Numbers: ER11-3885-000.

Applicants: Wisconsin Electric Power Company.

Description: Wisconsin Electric Power Company submits tariff filing per 35.13(a)(2)(iii: WPPI Rate Schedule FERC No. 90 revised to be effective 9/1/2011.

Filed Date: 06/24/2011.

Accession Number: 20110624-5165

Comment Date: 5 p.m. Eastern Time on Friday, July 15, 2011.

Docket Numbers: ER11-3886-000.

Applicants: New York Independent System Operator, Inc., Niagara Mohawk Power Corporation.

Description: New York Independent System Operator, Inc. submits tariff filing per 35.13(a)(2)(iii: IA Between National Grid and the Village of Ilion to be effective 7/1/2011.

Filed Date: 06/24/2011.

Accession Number: 20110624-5198.

Comment Date: 5 p.m. Eastern Time on Tuesday, July 5, 2011.

Docket Numbers: ER11-3886-001.

Applicants: New York Independent System Operator, Inc., Niagara Mohawk Power Corporation.

Description: New York Independent System Operator, Inc. submits tariff filing per 35.17(b): Amendment to Niagara Mohawk, Village of Ilion IA No. 1755 to be effective 7/1/2011.

Filed Date: 06/27/2011.

Accession Number: 20110627-5097.

Comment Date: 5 p.m. Eastern Time on Tuesday, July 5, 2011.

Docket Numbers: ER11-3887-000.

Applicants: Cedar Creek Wind Energy, LLC.

Description: Cedar Creek Wind Energy, LLC submits tariff filing per 35.13(a)(2)(iii: Concurrence to be effective 6/24/2011.

Filed Date: 06/24/2011.

Accession Number: 20110624-5199.

Comment Date: 5 p.m. Eastern Time on Friday, July 15, 2011.

Docket Numbers: ER11-3891-000.

Applicants: ISO New England Inc.

Description: ISO New England Inc. Forward Capacity Auction Results Filing.

Filed Date: 06/27/2011.

Accession Number: 20110627-5095.

Comment Date: 5 p.m. Eastern Time on Thursday, August 11, 2011.

Take notice that the Commission received the following electric reliability filings

Docket Numbers: RD11-7-000.

Applicants: North American Electric Reliability Corp.

Description: Petition of the North American Electric Reliability Corporation for Approval of a Personnel Performance, Training, and Qualifications Reliability Standard.

Filed Date: 04/29/2011.

Accession Number: 20110429-5556.

Comment Date: 5 p.m. Eastern Time on Monday, July 18, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: June 27, 2011.
Nathaniel J. Davis, Sr.,
Deputy Secretary.

[FR Doc. 2011-16689 Filed 7-1-11; 8:45 am]

BILLING CODE 6717-01-P